DEPARTMENT OF DEFENSE

Office of the Secretary

Submission for OMB Review; Comment Request

ACTION: Notice.

The Department of Defense has submitted to OMB for clearance, the following proposal for collection of information under the provisions of the Paperwork Reduction Act (44 U.S.C. chapter 35).

Title and OMB Number: Marine Corps Advertising Awareness and Attitude Tracking Study; OMB Number 0704-0155.

Type of Request: Reinstatement.

Number of Respondents: 1,600.

Responses per Respondent: 2.

Annual Responses: 3,200.

Average Burden per Response: 21 minutes.

Annual Burden Hours: 1,120.

Needs and Uses: The Marine Corps Advertising Awareness and Attitude Tracking Study is used by the Marine Corps to measure the effectiveness of current advertising campaigns. The study, a semi-annual telephonic survey, also provides data concerning perceptions of young males and females towards the advantages of joining the Marine Corps, specific attributes of Marines, and the Marine Corps in general. This information is also used to plan future advertising campaigns. Respondents are young men and women between the ages of 16-19 years of age who have no prior experience in the military.

Affected Public: Individuals or Households.

Frequency: Semi-Annually.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: June 30, 2000.
Patricia L. Toppings,
Alternate OSD Federal Register Liaison Officer, Department of Defense.

[FR Doc. 00-17410 Filed 7-10-00; 8:45 am]

BILLING CODE 5001-10-M